DEPARTMENT OF HEALTH AND HUMAN SERVICES

Centers for Disease Control and Prevention

Board of Scientific Counselors, National Center for Injury Prevention and Control (BSC, NCIPC)

In accordance with Section 10(a)(2) of the Federal Advisory Committee Act (Pub. L. 92-463), the Centers for Disease Control and Prevention (CDC) announces, the following meeting of the aforementioned committee:

Times and Dates: 1:00 p.m.-3:15 p.m., June 5, 2014 (CLOSED). 9:00 a.m.-3:45 p.m., June 6, 2014 (OPEN).

Place: Centers for Disease Control and Prevention, 4770 Buford Highway NE., Chamblee Campus, Building 107, Conference Room 1-B 01206/1-C 01210, Atlanta, Georgia.

Status: Portions of the meeting as designated above will be closed to the public in accordance with provisions set forth in Section 552b(c)(4) and (6), Title 5 U.S.C., and the Determination of the Director, Management Analysis and Services Office, CDC, pursuant to Public Law 92-463.

Purpose: The Board will: (1) Conduct, encourage, cooperate with, and assist other appropriate public health authorities, scientific institutions, and scientists in the conduct of research, investigations, experiments, demonstrations, and studies relating to the causes, diagnosis, treatment, control, and prevention of physical and mental diseases, and other impairments; (2) assist States and their political subdivisions in preventing and suppressing communicable and non-communicable diseases and other preventable conditions and in promoting health and well-being; and (3) conduct and assist in research and control activities related to injury.

The Board of Scientific Counselors makes recommendations regarding policies, strategies, objectives, and priorities; and reviews progress toward injury prevention goals and provides evidence in injury prevention-related research and programs. The Board also provides advice on the appropriate balance of intramural and extramural research, the structure, progress and performance of intramural programs. The Board is designed to provide guidance on extramural scientific program matters, including the: (1) Review of extramural research concepts for funding opportunity announcements; (2) conduct of Secondary Peer Review of extramural research grants, cooperative agreements, and contracts applications received in response to the funding opportunity announcements as it relates to the Center's programmatic balance and mission; (3) submission of secondary review recommendations to the Center Director of applications to be considered for funding support; (4) review of research portfolios, and (5) review of program proposals.

Matters for Discussion: On the first day of the meeting (closed session to the public), the Board of Scientific Counselors will conduct the Secondary Peer Review of extramural research grant applications received in response to Funding Opportunity Announcement CE14-001, Grants for Injury Control Research Centers. Applications will be assessed for applicability to the Center's mission and programmatic balance. Recommendations from the secondary review will be voted upon and the applications will be forwarded to the Acting Center Director for consideration for funding support.

Open Session: On the second day of the meeting, the Board will discuss the following: (1) Update from the Acting Director, (2) update from the Pediatric Mild Traumatic Brain Injuries TBI Workgroup Activities, (3) update on WISQARS (Web-based Injury Statistics Query and Reporting System) Portfolio Review, and (4) specific research topics in unintentional injuries and violence-related injuries for which the Divisions will be seeking advice and guidance on proposed and/or current projects. The exact topics areas are being determined.

There will be 15 minutes allotted for public comments at the end of the open session.

Agenda items are subject to change as priorities dictate.

Contact Person for More Information: Gwendolyn H. Cattledge, Ph.D., M.S.E.H., Deputy Associate Director for Science, NCIPC, CDC, 4770 Buford Highway NE., Mailstop F-63, Atlanta, Georgia 30341, Telephone (770) 488-1430.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2014-11351 Filed 5-15-14; 8:45 am]

BILLING CODE 4163-18-P